DEPARTMENT OF DEFENSE

Department of the Navy

Record of Decision for the Replacement Pier and Dredging at Naval Station San Diego

AGENCY: Department of the Navy, DOD.

ACTION: Notice of record of decision.

SUMMARY: The Department of the Navy proposes replacement of two existing World War II era piers at Naval Station, San Diego, California, in order to more efficiently meet berthing, logistic and maintenance requirements for ships homeported in San Diego. After carefully weighing the operation needs, environmental impacts, and cost implications of the proposed action, the Department of the Navy announces its decision to demolish existing piers 10 and 11 and construct a single-deck, pile-supported replacement pier.

FOR FURTHER INFORMATION CONTACT: Ms. Grace S. Penafuerte, Naval Facilities Engineering Command, Southwest Division, 2585 Callagan Highway, Building 99, San Diego, CA 92136-5198; telephone 619-556-7773; fax 619-556-8929; or e-mail.

SUPPLEMENTARY INFORMATION: The text of the entire Record of Decision (ROD) is provided as follows:

The Department of the Navy (DON), pursuant to Section 102(2)(c) of the National Environmental Policy Act of 1969 (42 U.S.C. 4331 et seq.) and the regulations of the Council on Environmental Quality (CEQ) that implement NEPA procedures (40 CFR Parts 1500-1508), prepared an Environmental Impact Statement (EIS) to evaluate the environmental impacts of its proposal to demolish existing piers and construct a new pier at Naval Station San Diego, California. The DON considered four alternatives: (1) replacement of existing piers 10/11 or 11/12 with a pile-supported pier, disposal of approximately 715,600 cubic yards of dredged material at a designated open-ocean disposal site, and disposal of approximately 48,000 cubic yards of dredged material at nearby licensed upland sites after dewatering at a confined disposal facility; (2) replacement of existing piers 10/11 or 11/12 with a pile-supported pier, disposal of approximately 715,600 cubic yards of dredged material at a designated open-ocean disposal site, and disposal of approximately 48,000 cubic yards of dredged material at distant licensed upland sites after dewatering on barges; (3) replacement of existing piers 10/11 or 11/12 with a mole pier, disposal of approximately 715,600 cubic yards of dredged material at a designated open-ocean disposal site, and disposal of approximately 48,000 cubic yards of dredged material in a confined nearshore disposal site; and (4) no action. Alternative 1 is both the DON and the environmentally-preferred alternative.

After carefully weighing operational requirements, environmental impacts, and costs, I have selected Alternative 1 as the best way to achieve the DON's proposed action. In evaluating the alternatives for pier replacement and dredging at Naval Station San Diego, I considered the following: berthing, logistics, and maintenance requirements of ships currently homeported in the San Diego region; environmental impacts from pier demolition and construction, dredging, and dredged material disposal; associated project costs; and comments received during the EIS process from federal and state regulatory agencies, non-governmental organizations, and individuals.

Implementation of Alternative 1 will include the following: (1) demolition of existing piers 10 and 11; (2) construction of a single-deck, pile-supported replacement pier, 120 feet wide and 1,500 feet long; (3) dredging of the area under and surrounding the replacement pier to a depth of 37 feet below mean lower low water, with an estimated total dredge volume of 763,600 cubic yards; (4) disposal of approximately 715,600 cubic yards of dredged material suitable for ocean disposal at the LA-5 Ocean Dredged Material Disposal Site; and (5) disposal of approximately 48,000 cubic yards of unsuitable dredged material at one or more licensed upland disposal sites after the dredged material is dewatered at a Confined Disposal Facility at Naval Station San Diego.

Environmental Impacts

Direct, indirect and cumulative impacts of the proposed action and alternatives on water resources, biological resources, topography/geology, air quality, health and safety, land use, noise, transportation, aesthetics, cultural resources, utilities, and the local economy were analyzed in the EIS. Environmental justice implications were analyzed as well. The DON determined that all potential environmental impacts from the proposed project would be less than significant, and that there would be no disproportionate adverse effects to minority or low income populations. The following paragraphs summarize impacts on environmental resources.

Water Resources

Minor, localized impacts on water quality will result from resuspension of bottom sediments during demolition and construction activities. In addition, minor, localized reduction in water circulation will result from installation of pier pilings. A storm water pollution prevention plan will minimize impacts associated with soil erosion or spillage of hazardous substances during the 24-month construction period. Implementation of Best Management Practices specific to pier activities and incorporation of measures such as filtration devices will minimize potential for adding pollutants to stormwater runoff. California Coastal Commission has concurred that the proposed project is consistent, to the maximum extent practicable, with enforceable policies of the California Coastal Program. The DON will obtain a dredging and disposal permit from the Corps of Engineers, and a Water Quality Certificate from the regional water quality board.

Biological Resources

During construction, there will be a loss of less than two acres of foraging and resting habitat for marine birds. Disturbance and permanent loss of some marine plants and animals and their habitat will result from dredging and pier construction over the same localized area. Habitat characteristics, as well as limited context and intensity of potential effects result in less than significant impacts. While the analysis in the EIS concluded that there would be no significant impacts, the DON has agreed to implement two enhancement measures as part of the proposed action: (1) a study of California least tern foraging success around manmade, in-water structures in San Diego Bay and (2) creation of two fish habitat structures at the Naval Amphibious Base Enhancement Area using concrete from existing piers. Implementation of these enhancement measures is expected to advance ongoing efforts to protect the marine environment in San Diego Bay.

Air Quality

Dredge equipment is expected to produce the largest impact on ambient air quality, emitting 33.5 tons of nitrogen oxides, but will not trigger dispersion modeling analysis for major sources. Alternative 1 will not contribute to an exceedance of an ambient air quality standard, e.g. de minimis thresholds for nitrogen oxides, volatile organic compounds, and carbon monoxide.

Ground Transportation

Vehicular volume from Alternative 1 will be less than 6 percent of the traffic volume on 8th Street (to and from Naval Station San Diego's Gate 9) and less than 2 percent of the volume on Interstate 5. Implementation of the DON's Traffic Control Plan will preclude truck movements on 8th Street near Gate 9 during peak commuting hours, prohibit the use of oversized construction vehicles on public roads, and designate specific truck traffic routes.

Utilities

Ongoing operational utility demands will be similar to those at existing piers and will not use a substantial portion of remaining capacity. The replacement pier will incorporate and connect to an existing oily wastewater treatment system used at adjacent piers. Stormwater runoff will be accommodated by the existing basewide system, will be covered by the existing basewide storm water pollution prevention plan, and will incorporate best management practices. Pier construction will include a stormwater filtration system.

Response to Comments on the FEIS

The DON received no comments on the FEIS.

Conclusions

After carefully weighing all of the information and analysis presented during the EIS process, I have determined that Alternative 1 best minimizes environmental impacts while meeting operational requirements of modern ships homeported in the San Diego region in a cost-effective manner.

Dated: July 26, 2001.
Duncan Holaday,
Deputy Assistant Secretary of the Navy (Installations and Facilities).

[FR Doc. 01-19889 Filed 8-7-01; 8:45 am]

BILLING CODE 3810-FF-P